DEPARTMENT OF THE INTERIOR

U.S. Geological Survey

[GX14MB00FG3B100]

Proposed Agency Information Collection Activity: Nonindigenous Aquatic Species Sighting Reporting Form

AGENCY: United States Geological Survey (USGS), Interior.

ACTION: Notice of an extension of a currently approved information collection (1028-0098).

SUMMARY: We (the U.S. Geological Survey) have sent an Information Collection Request (ICR) to the Office of Management and Budget (OMB) for review and approval. The ICR, which is summarized below, describes the nature of the collection and the estimated burden on the public. As required by the Paperwork Reduction Act (PRA) of 1995, and as part of our continuing efforts to reduce paperwork and respondent burden, we invite the general public and other federal agencies to take this opportunity to comment on this ICR. This collection is scheduled to expire on December 31, 2013.

DATES: To ensure that your comments on this ICR are considered, you must submit them on or before January 23, 2014.

ADDRESSES: Please submit your written comments on this ICR directly to the OMB Office of Information and Regulatory Affairs, Attention: Desk Officer for the Department of the Interior, at OIRA_ SUBMISSION@omb.eop.gov (email); or (202) 395-5806 (fax). Please also submit a duplicate copy of your comments to the Information Collection Clearance Officer, U.S. Geological Survey, 12201 Sunrise Valley Drive, 807 National Center, 12201 Sunrise Valley Drive, Reston, VA 20192 (mail); 703-648-7195 (fax); or dgovoni@usgs.gov (email). Reference `OMB Information Collection 1028-0098' in all correspondence.

FOR FURTHER INFORMATION CONTACT: To request additional information about this ICR, please contact Pam Fuller at (352) 264-3481 (telephone); pfuller@usgs.gov (email); or by mail at U.S. Geological Survey, 7920 NW 71st Street, Gainesville, Florida 32653. You may also find information about this ICR at www.reginfo.gov.

SUPPLEMENTARY INFORMATION:

I. Abstract

America is under siege by many harmful non-native species of plants, animals, and microorganisms. More than 6,500 nonindigenous species are now established in the United States, posing risks to native species, valued ecosystems, and human and wildlife health. These invaders extract a huge cost, an estimated 120 billion dollars per year, to mitigate their harmful impacts. The current annual environmental, economic, and health-related costs of invasive species exceed those of all other natural disasters combined.

Through its Invasive Species Program (http://www.usgs.gov/ecosystems/invasive_species/), the USGS plays an important role in federal efforts to combat invasive species in natural and semi-natural areas through early detection and assessment of newly established invaders; monitoring of invading populations; and improving understanding of the ecology of invaders and factors in the resistance of habitats to invasion. The USGS provides the tools, technology, and information supporting efforts to prevent, contain, control, and manage invasive species nationwide. To meet user needs, the USGS also develops methods for compiling and synthesizing accurate and reliable data and information on invasive species for inclusion in a distributed and integrated web-based information system.

As part of the USGS Invasive Species Program, the Nonindigenous Aquatic Species (NAS) database (http://nas.er.usgs.gov/) functions as a repository and clearinghouse for occurrence information on nonindigenous aquatic species from across the United States. It contains locality information on more than 900 species of vertebrates, invertebrates, and vascular plants introduced since 1850. Taxa include foreign species as well as those native to North America that have been transported outside of their natural range. The NAS Web site provides immediate access to new occurrence records through a real-time interface with the NAS database. Visitors to the Web site can use a set of predefined queries to obtain lists of species according to state or hydrologic basin of interest. Fact sheets, distribution maps, and information on new occurrences are continually posted and updated. Dynamically generated species distribution maps show the spatial accuracy of the locations reported, population status, and links to more information about each report.

Information is collected from the public regarding the local occurrences of nonindigenous aquatic species, primarily fish, in open waters of the United States. This is vital information for early detection and rapid response for the possible eradication of organisms that may be considered invasive in a natural environment such as a lake, river, stream, or pond. Because it is not possible for USGS scientists to monitor all open waters for harmful nonindigenous organisms, the public can help by serving as the “eyes and ears” for the USGS's Nonindigenous Aquatic Species Program.

The USGS does not actively solicit or require this observation information from the public. Participation in the reporting process is completely voluntary. Members of the public who wish to report the occurrence of a suspected nonindigenous aquatic species, usually encountered through fishing or some other outdoor recreational activity, may fill out and submit a form (http://nas.er.usgs.gov/SightingReport.aspx) posted on our Web site. The information requested includes type of organism, date and location of sighting, photograph(s) if available, and basic observer contact information (to allow the USGS to contact the observer in the event additional information, such as the color markings and size of the specimen collected or observed, is needed to verify its identity).

II. Data

OMB Control Number: 1028-0098.

Title: Nonindigenous Aquatic Species Sighting Reporting Form.

Type of Request: Extension of a currently approved collection.

Affected Public: State and local government employees and private individuals.

Respondent's Obligation: None; voluntary.

Frequency of Collection: Occasional.

Estimated Annual Number of Respondents: 400.

Estimated Total Annual Responses: 400.

Estimated Time per Response: 10 minutes.

Estimated Total Annual Burden Hours: 67 hours.

III. Request for Comments

Comments: We are soliciting comments as to: (a) Whether the proposed collection of information is necessary for the agency to perform its duties, including whether the information is useful; (b) the accuracy of the agency's estimate of the burden time to the proposed collection of information; (c) how to enhance the quality, usefulness, and clarity of the information to be collected; and (d) how to minimize the burden on the respondents, including the use of automated collection techniques or other forms of information technology. Please note that the comments submitted in response to this notice are a matter of public record. Before including your address, phone number, email address, or other personal identifying information in your comment, you should be aware that your entire comment, including your personal identifying information, may be made publicly available at any time. While you can ask the OMB in your comment to withhold your personal identifying information from public review, we cannot guarantee they will do so.

Dated: December 17, 2013.
Anne Kinsinger,
Associate Director for Biology, U.S. Geological Survey.

[FR Doc. 2013-30565 Filed 12-23-13; 8:45 am]

BILLING CODE 4311-AM-P